DEPARTMENT OF JUSTICE

Antitrust Division

Notice Pursuant to the National Cooperative Research and Production Act of 1993—Information Card Foundation

Notice is hereby given that, on June 2, 2008, pursuant to Section 6(a) of the National Cooperative Research and Production Act of 1993, 15 U.S.C. 4301 et seq. (“the Act”), Information Card Foundation has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Mary Ruddy (individual member), Arlington, MA; Pamela Dingle (individual member), Calgary, Alberta, CANADA; Axel Nennker (individual member), Berlin, GERMANY; Paul Trevithick (individual member), Brookline, MA; Patrick Harding (individual member), Concord, MA; Drummond Reed (individual member), Seattle, WA; Andrew Hodgkinson (individual member), Pleasant Grove, UT; Eguif ax, Atlanta, GA; and Paypal, San Jose, CA. The general areas of Information Card Foundation's planned activity are (a) To promote and support the development and global adoption of an open, trusted, accessible, interoperable identity layer within the internet that maximizes control over personal information by individuals (the “Identity Layer”); (b) to promote and support the development and global adoption of open, accessible interoperability recommendations, solutions, standards and specifications relating to the Identity Layer and information cards (“i-cards”) used to gain and provide access to information within the Identity Layer (“Specifications”) , including without limitation, Specifications relating to user experience conventions and certification; (c) to promote the Specifications; (d) to provide for testing and conformity assessment of implementations in order to ensure and/or facilitate compliance with Specifications; (e) to operate a branding program based upon distinctive trademarks to create high user awareness of, demand for, and confidence in the Information Layer, i-cards and products designed in compliance with Specifications; and (f) to undertake such other activities as may from time to time be appropriate to further the purposes and achieve the goals set forth above.

Patricia A. Brink,
Deputy Director of Operations, Antitrust Division.

[FR Doc. E8-15668 Filed 7-15-08; 8:45 am]

BILLING CODE 4410-11-M